DEPARTMENT OF ENERGY

Federal Energy Regulatory Commission

Combined Notice of Filings #1

Take notice that the Commission received the following electric rate filings:

Docket Numbers: ER17-156-003.

Applicants: Midcontinent Independent System Operator, Inc.

Description: Compliance filing: 2017-03-31_Continued Queue Reform Attachment X Compliance to be effective 1/4/2017.

Filed Date: 3/31/17.

Accession Number: 20170331-5460.

Comments Due: 5 p.m. ET 4/21/17.

Docket Numbers: ER14-1236-001.

Applicants: Elgin Energy Center, LLC.

Description: Compliance filing: Informational Report, E-Tariff & Requests for Waiver and Expedited Consideration to be effective N/A.

Filed Date: 3/31/17.

Accession Number: 20170331-5525.

Comments Due: 5 p.m. ET 4/21/17.

Docket Numbers: ER17-1371-000.

Applicants: Southwest Power Pool, Inc.

Description: § 205(d) Rate Filing: 1266R6 Kansas Municipal Energy Agency NITSA and NOA to be effective 3/1/2017.

Filed Date: 3/31/17.

Accession Number: 20170331-5452.

Comments Due: 5 p.m. ET 4/21/17.

Docket Numbers: ER17-1372-000.

Applicants: PJM Interconnection, L.L.C.

Description: § 205(d) Rate Filing: Rev to the OATT, OA and RAA re: Clean-Up—Business Day to be effective 6/1/2017.

Filed Date: 3/31/17.

Accession Number: 20170331-5493.

Comments Due: 5 p.m. ET 4/21/17.

Docket Numbers: ER17-1373-000.

Applicants: Rocky Road Power, LLC.

Description: Rocky Road Power, LLC submits tariff filing per 35: Informational Report, E-Tariff & Requests for Waiver and Expedited Consideration [ER10-865] to be effective 5/29/2017.

Filed Date: 3/31/17.

Accession Number: 20170331-5520.

Comments Due: 5 p.m. ET 4/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 3, 2017.
Kimberly D. Bose,
Secretary.

[FR Doc. 2017-06931 Filed 4-6-17; 8:45 am]

BILLING CODE 6717-01-P